FEDERAL COMMUNICATIONS COMMISSION

47 CFR Parts 1, 2, 15, 25, 30, and 101

[GN Docket No. 14-177, IB Docket Nos. 15-256 and 97-95, WT Docket No. 10-112; Report No. 3065]

Petitions for Reconsideration of Action in Rulemaking Proceeding

AGENCY: Federal Communications Commission.

ACTION: Petition for Reconsideration.

SUMMARY: Petitions for Reconsideration (Petitions) have been filed in the Commission's rulemaking proceeding by Chris Pearson, on behalf of 5G Americas; Donald L. Herman, Jr., on behalf of Adams Telcom, Inc., jointly with Central Texas Communications, Inc., E.N.M.R. Telephone Cooperative, Louisiana Competitive Telecommunications, Inc., and Pine Belt Communications, Inc.; Audrey L. Allison, on behalf of The Boeing Company; Steven K. Berry, on behalf of Competitive Carriers Association; Brian M. Josef, on behalf of CTIA; Giselle Creeser, on behalf of Inmarsat, Inc., jointly with Jennifer A. Manner, on behalf of EchoStar Satellite Operating Corporation and Hughes Network Systems LLC; Rick Chessen, on behalf of NTCA—The Internet & Television Association; Michele C. Farquhar, on behalf of Nextlink Wireless, LLC; Petra Vorwig, on behalf of SES Americom, Inc., jointly with Suzanne Malloy, on behalf of O3b Limited; Tom Stroup, on behalf of Satellite Industry Association; James Reid, on behalf of Telecommunications Industry Association; Steve B. Sharkey, on behalf of T-Mobile USA, Inc.; and Christopher Murphy, on behalf of ViaSat, Inc.

DATES: Oppositions to the Petition must be filed on or before January 17, 2017. Replies to an opposition must be filed on or before January 24, 2017.

ADDRESSES: Federal Communications Commission, 445 12th Street SW., Washington, DC 20554.

FOR FURTHER INFORMATION CONTACT: John Schauble, Wireless Telecommunications Bureau, (202) 418-0797; email: John.Schauble@fcc.gov.

SUPPLEMENTARY INFORMATION: This is a summary of the Commission's document, Report No. 3065, released December 22, 2016. The full text of the Petitions is available for viewing and copying at the FCC Reference Information Center, 445 12th Street SW., Room CY-A257, Washington, DC 20554 or may be accessed online via the Commission's Electronic Comment Filing System at: http://apps.fcc.gov/ecfs/. The Commission will not send a copy of this document pursuant to the Congressional Review Act, 5 U.S.C. 801(a)(1)(A), because this document does not have an impact on any rules of particular applicability.

Subject: Use of Spectrum Bands Above 24 GHz for Mobile Radio Services, FCC 16-89, published at 81 FR 79894, November 14, 2016, in GN Docket No. 14-177, IB Docket Nos. 15-256 and 97-95, RM-11664, and WT Docket No. 10-112. This document is being published pursuant to 47 CFR 1.429(e). See also 47 CFR 1.4(b)(1) and 1.429(f), (g).

Number of Petitions Filed: 13.

Federal Communications Commission.
Katura Howard,
Federal Register Liaison Officer, Office of the Secretary.

[FR Doc. 2016-31709 Filed 12-29-16; 8:45 am]

BILLING CODE 6712-01-P